DEPARTMENT OF COMMERCE

[I.D. 100201A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coastal Zone Management Program Administration.

Form Number(s): None.

OMB Approval Number: 0648-0119.

Type of Request: Regular submission.

Burden Hours: 6,598.

Number of Respondents: 34.

Average Hours Per Response: 10 hours for a Section 305 semi-annual performance report, 800 hours for a Section 305 program management document, 27 hours for semi-annual performance reports for Sections 306/306A/309/310/6217, 6 hours for an annual report, 8 hours for a program amendment or routine program change, 5 hours for Section 306A documentation, 150 hours for a Section 6217 nonpoint pollution control program, 240 hours for a new Section 6217 nonpoint pollution control program, 5 hours for a semi-annual performance report for Section 310 special appropriations, and 240 hours for a Section 309 assessment and strategy document

Needs and Uses: Coastal zone management grants provide funds to states and territories to implement federally-approved coastal zone management plans, to revise assessment documents and multi-year strategies, to submit requests to approve amendments or program changes, and to submit Section 306A documentation on their approved coastal zone management plans. Funds are also provided to states to develop their coastal management documents. The information submitted is used to determine if activities achieve national coastal management and enhancement objectives and if states are adhering to their approved plans.

Affected Public: State, local, or tribal Government.

Frequency: On occasion, semi-annual, annual, and every five years.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: September 27, 2001.
Gwellnar Banks,
Management Analyst, Office of the Chief Information Officer.

[FR Doc. 01-25034 Filed 10-4-01; 8:45 am]

BILLING CODE 3510-08-S